DEPARTMENT OF DEFENSE

Department of the Army; Corps of Engineers

Intent To Prepare a Supplemental Draft Environmental Impact Statement for the Proposed Northern Integrated Supply Project in Northeastern Colorado

AGENCY: Department of the Army, U.S. Army Corps of Engineers, DoD.

ACTION: Notice of intent.

SUMMARY: The U.S. Army Corps of Engineers (COE) is preparing a Supplemental Draft Environmental Impact Statement (SDEIS) to further analyze the direct, indirect and cumulative effects of the Northern Integrated Supply Project (NISP). Construction of the proposed Project will result in temporary and permanent impacts to jurisdictional waters of the United States, thereby requiring a Clean Water Act Section 404 permit. The COE released a Draft Environmental Impact Statement (DEIS) for NISP April 30, 2008. Significant comments were received during three public hearings held for the Draft Environmental Impact Statement (DEIS) as well as submitted during the comment period. The COE has determined that substantial additional analysis is required and that the purposes of the National Environmental Policy Act would be furthered through the preparation of the SDEIS.

FOR FURTHER INFORMATION CONTACT: Questions and comments regarding the proposed action and SDEIS should be addressed to Chandler Peter, NEPA/404b1 Coordinator, U.S. Army Corps of Engineers, 9307 South Wadsworth Boulevard, Littleton, CO 80128; (303) 979-4120; chandler.j.peter@usace.army.mil.

SUPPLEMENTARY INFORMATION: NISP is a collaborative regional water supply project between 15 water providers (Participants) and the Northern Colorado Water Conservancy District acting by and through the Northern Integrated Supply Project Water Activity Enterprise (District). The Participants are a group of growing towns and rural domestic water districts located in Larimer, Weld, and Boulder Counties, CO. The participants are: Central Weld County Water District, Dacono, Eaton, Erie, Evans, Firestone, Frederick, Fort Collins Loveland Water District, Fort Lupton, Fort Morgan, Lafayette, Left Hand Water District, Morgan County Quality Water District, Severance, and Windsor. The project will provide approximately 40,000 acre-feet of new reliable water supply, which will meet a portion of the Participants' estimated 2025 additional water supply needs. The Northern Integrated Supply Project would be a non-federal project constructed, owned and operated by the District.

The SDEIS will be prepared according to the COE's procedures for implementing the National Environmental Policy Act (NEPA) of 1969, as amended, 42 U.S.C.4332(2)(c), and consistent with the COE's policy to facilitate public understanding and review of agency proposals. A full range of reasonable alternatives, including the proposed Project and no action, were evaluated in the DEIS. Revisions to some of those alternatives as well as additional analysis involving factors such as hydrology, geomorphology, aquatic resources, water quality, and cumulative effects will be accomplished in the SDEIS. Scoping meetings will not be held pursuant to 40 CFR 1502.9(c)(4). Public hearings will be conducted on the SDEIS which has an anticipated release of June 2010.

The U.S. Environmental Protection Agency, the U.S. Fish and Wildlife Service, the Colorado Department of Transportation, and Larimer County are cooperating agencies in the formulation of the EIS.

Chandler J. Peter,
NEPA/404b1 Coordinator, Operations Division, Omaha District.

[FR Doc. E9-3249 Filed 2-13-09; 8:45 am]

BILLING CODE 3720-58-P